ELECTION ASSISTANCE COMMISSION

Sunshine Act Meetings

AGENCY: U.S. Election Assistance Commission.

ACTION: Sunshine Act notice; notice of public meeting agenda.

SUMMARY: Public Meeting: U.S. Election Assistance Commission Local Leadership Council Inaugural Meeting.

DATES: Friday, December 10, 2021, 1:00 p.m.-2:30 p.m. Eastern.

ADDRESSES: Virtual via Zoom.

The meeting is open to the public and will be livestreamed on the U.S. Election Assistance Commission YouTube Channel: https://www.youtube.com/channel/UCpN6i0g2rlF4ITWhwvBwwZw.

FOR FURTHER INFORMATION CONTACT: Kristen Muthig, Telephone: (202) 897-9285, Email: kmuthig@eac.gov.

SUPPLEMENTARY INFORMATION:

Purpose: In accordance with the Government in the Sunshine Act (Sunshine Act), Public Law 94-409, as amended (5 U.S.C. 552b), the U.S. Election Assistance Commission (EAC) will conduct a virtual inaugural meeting of the EAC Local Leadership Council to introduce members to the roles and responsibilities of this new advisory board and give members an overview of the role and work of the agency.

Agenda: The U.S. Election Assistance Commission (EAC) Local Leadership Council will hold their inaugural meeting to launch this new FACA board.

Board members will be officially sworn in, and will receive information from the Designated Federal Officer and senior EAC staff about the duties and roles members are responsible for. Members will also receive a briefing on the work of the EAC and what the agency is working on for the year to come.

Background: The Local Leadership Council was established in June 2021 under agency authority pursuant to and in accordance with the provisions of the Federal Advisory Committee Act, as amended (5 U.S.C. App. 2). The Advisory Committee is governed by the Federal Advisory Committee Act, which sets forth standards for the formation and use of advisory committees. The Advisory Committee shall advise the EAC on how best to fulfill the EAC's statutory duties set forth in 52 U.S.C. 20922 as well as such other matters as the EAC determines. It shall provide a relevant and comprehensive source of expert, unbiased analysis and recommendations to the EAC on local election administration topics to include but not limited to voter registration and registration database maintenance, voting system user practices, ballot administration (programming, printing, and logistics), processing, accounting, canvassing, chain of custody, certifying results, and auditing.

The Local Leadership Council shall consist of 100 members. The Election Assistance Commission shall appoint two members from each state after soliciting nominations from each state's election official professional association. At the time of submission, the Local Leadership Council has 81 appointed members. Upon appointment, Advisory Committee members must be serving or have previously served in a leadership role in a state's local election official professional association.

The full agenda will be posted in advance on the EAC website: https://www.eac.gov.

Status: This meeting will be open to the public.

Kevin Rayburn,
General Counsel, U.S. Election Assistance Commission.

[FR Doc. 2021-25857 Filed 11-23-21; 11:15 am]

BILLING CODE 6820-KF-P